DEPARTMENT OF THE INTERIOR

Fish and Wildlife Service

[FWS-R9-IA-2010-N179]

[96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless a Federal permit is issued that allows such activities. Both laws require that we invite public comment before issuing these permits.

DATES: We must receive requests for documents or comments on or before September 20, 2010.We must receive requests for marine mammal permit public hearings, in writing, at the address shown in the ADDRESSES section by September 20, 2010.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), and our regulations in the Code of Federal Regulations (CFR) at 50 CFR 17, along with the Marine Mammal Protection Act of 1972, as amended (16 U.S.C. 1361 et seq.),[Doc regulations in the Code of Federal Regulations (CFR) at 50 CFR 18 require that we invite public comment before final action on these permit applications. Under the MMPA, you may request a hearing on any MMPA application received. If you request a hearing, give specific reasons why a hearing would be appropriate. The holding of such a hearing is at the discretion of the Service Director.

III. Permit Applications

Endangered Species

Applicant: Schubot Exotic Bird Health Center, College Station, Texas;

PRT-17193A

The applicant requests a permit to importation of crop contents obtained from 20-50 day old nestlings, Abaco parrot (Amazona leucocephala bahamensis), for the purpose of scientific research. This notification covers activities to be conducted by the applicant over a 5-year period.

Applicant: Ferdinand Fercos-Hantig and Anton Fercos-Hantig, Las Vegas, NV;

PRT-073403, 073404, 114454, 206853, and 809334

The applicant requests the re-issuance of permits for the re-export and re-import of four captive-born tigers and one captive-born African leopard to worldwide locations for the purpose of enhancement of the species through conservation education. The permit numbers and animals are: [073403, Sherni/Victoria; 073404, Picasso; 809334, Sarina; 114454, Dora; and 206853, Allaya]. This notification covers activities to be conducted by the applicant over a three-year period and the import of any potential progeny born while overseas.

Multiple Applicants

The following applicants each request a permit to import the sport-hunted trophy of one male bontebok (Damaliscus pygargus pygargus) culled from a captive herd maintained under the management program of the Republic of South Africa, for the purpose of enhancement of the survival of the species.

Applicant: Earl Schomburg, Danville, IL; PRT-236049

Applicant: Harold Meyers, Dalhart, TX; PRT-17885A

Applicant: Roger Hosfelt, Shippensburg, PA; PRT-236080

Applicant: John Parker, Dallas, TX; PRT-18423A

Applicant: Ludwig Bohler, Far Hills, NJ; PRT-19636A

Endangered Marine Mammals and Marine Mammals

Applicant: EcoHealth Alliance, Inc., St. Petersburg, FL; PRT-107933

The applicant requests an amendment to the permit (previously issued under the name, Wildlife Trust, Inc.) to import of biological samples from West African manatees (Trichechus senegalensis) for the purpose of scientific research. This notification covers activities to be conducted by the applicant over the remainder of the 5-year period.

Concurrent with publishing this notice in the Federal Register, we are forwarding copies of the above applications to the Marine Mammal Commission and the Committee of Scientific Advisors for their review.

Dated: August 13, 2010
Brenda Tapia
Program Analyst, Branch of Permits, Division of Management Authority

[FR Doc. 2010-20589 Filed 8-18-10; 8:45 am]

BILLING CODE S